DEPARTMENT OF ENERGY

Federal Energy Regulatory Commission

[Docket No. IC22-11-000]

Commission Information Collection Activities (FERC-538) Comment Request; Extension

AGENCY: Federal Energy Regulatory Commission, Department of Energy.

ACTION: Notice of information collection and request for comments.

SUMMARY: In compliance with the requirements of the Paperwork Reduction Act of 1995, the Federal Energy Regulatory Commission FERC-538 (Gas Pipeline Certificates: Section 7(a) Mandatory Initial Service), which will be submitted to the Office of Management and Budget (OMB) for review. No Comments were received on the 60-day notice published on April 12, 2022.

DATES: Comments on the collection of information are due July 22, 2022.

ADDRESSES: Send written comments on FERC-538 to OMB through www.reginfo.gov/public/do/PRAMain. Attention: Federal Energy Regulatory Commission Desk Officer. Please identify the OMB Control Number (1902-0061) in the subject line of your comments. Comments should be sent within 30 days of publication of this notice to www.reginfo.gov/public/do/PRAMain.

Please submit copies of your comments to the Commission. You may submit copies of your comments (identified by Docket No. IC22-11-000) by one of the following methods:

Electronic filing through https://www.ferc.gov, is preferred.

• Electronic Filing: Documents must be filed in acceptable native applications and print-to-PDF, but not in scanned or picture format.

• For those unable to file electronically, comments may be filed by USPS mail or by hand (including courier) delivery.

○ Mail via U.S. Postal Service Only: Addressed to: Federal Energy Regulatory Commission, Secretary of the Commission, 888 First Street NE, Washington, DC 20426.

○ Hand (including courier) delivery: Deliver to: Federal Energy Regulatory Commission, Secretary of the Commission, 12225 Wilkins Avenue, Rockville, MD 20852.

Instructions: OMB submissions must be formatted and filed in accordance with submission guidelines at www.reginfo.gov/public/do/PRAMain. Using the search function under the “Currently Under Review” field, select Federal Energy Regulatory Commission; click “submit,” and select “comment” to the right of the subject collection.

FERC submissions must be formatted and filed in accordance with submission guidelines at: https://www.ferc.gov. For user assistance, contact FERC Online Support by email at ferconlinesupport@ferc.gov, or by phone at: (866) 208-3676 (toll-free).

Docket: Users interested in receiving automatic notification of activity in this docket or in viewing/downloading comments and issuances in this docket may do so at https://www.ferc.gov/ferc-online/overview.

FOR FURTHER INFORMATION CONTACT: Ellen Brown may be reached by email at DataClearance@FERC.gov, telephone at (202) 502-8663.

SUPPLEMENTARY INFORMATION:

Title: Gas Pipeline Certificates: Section 7(a) Mandatory Initial Service.

OMB Control No.: 1902-0061.

Type of Request: Three-year extension of the FERC-538 information collection requirements with no changes to the current reporting requirements.

Abstract: The purpose of FERC-538 is to implement the information collections pursuant to Sections 7(a), 10(a) and 16 of Natural Gas Act (NGA),¹ and part 156 of the Commission Regulations.² These statutes and regulations upon application by a person or municipality authorized to engage in the local distribution of natural gas allows for the Commission to order a natural gas company to extend or improve its transportation facilities and sell natural gas to the municipality or person. Additionally, the natural gas company must for such purpose, extend its transportation facilities to communities immediately adjacent to such facilities or to territories served by the natural gas pipeline company. The Commission uses the application data (in FERC-538) in order to be fully informed concerning the applicant, and the service the applicant is requesting.

¹ 15 U.S.C. 717f-w.

² 18 CFR 156.

Type of Respondents: Persons or municipalities authorized to engage in the local distribution of natural gas.

Estimate of Annual Burden: ³ The Commission estimates the annual reporting burden and cost for the information collection as:

³ “Burden” is defined as the total time, effort, or financial resources expended by persons to generate, maintain, retain, or disclose or provide information to or for a federal agency. For further explanation of what is included in the information collection burden, reference 5 Code of Federal Regulations 1320.3.

⁴ The estimates for cost per response are derived using the following formula: Average Burden Hours per Response * $87.00/hour = Average cost/response. The figure is the 2021 FERC average hourly cost (for wages and benefits) of $87.00 (and an average annual cost of $180,703/year). Commission staff is using the FERC average salary plus benefits because we consider people completing the FERC-538 to be compensated at rates similar to FERC employees.

FERC-538: Gas Pipeline Certificates: Section 7(a) Mandatory Initial Service
| Number of respondents | Annual number of responses per respondent | Total number of responses | Average burden hrs. & cost ($) per response ⁴ | Total annual burden hours & total annual cost ($) | Cost per respondent ($)
| (1) | (2) | (1) * (2) = (3) | (4) | (3) * (4) = (5) | (5) ÷ (1)
Gas Pipeline Certificates | 1 | 1 | 1 | 240 hrs.; $20,880 | 240 hrs.; $20,880 | $20,880

Comments: Comments are invited on: (1) whether the collection of information is necessary for the proper performance of the functions of the Commission, including whether the information will have practical utility; (2) the accuracy of the agency's estimate of the burden and cost of the collection of information, including the validity of the methodology and assumptions used; (3) ways to enhance the quality, utility and clarity of the information collection; and (4) ways to minimize the burden of the collection of information on those who are to respond, including the use of automated collection techniques or other forms of information technology.

Dated: June 14, 2022.
Kimberly D. Bose,
Secretary.

[FR Doc. 2022-13279 Filed 6-21-22; 8:45 am]

BILLING CODE 6717-01-P